DEPARTMENT OF HEALTH AND HUMAN SERVICES

Agency for Toxic Substances and Disease Registry Public Meeting of the Inter-tribal Council on Hanford Health Projects (ICHHP) in Association With the Citizens Advisory Committee on Public Health Service (PHS) Activities and Research at Department of Energy (DOE) Sites: Hanford Health Effects Subcommittee

Name: Public meeting of the Inter-tribal Council on Hanford Health Projects (ICHHP) in association with the Citizens Advisory Committee on PHS Activities and Research at DOE Sites: Hanford Health Effects Subcommittee (HHES).

Time and Date: 9 a.m.-4:30 p.m., July 25, 2001.

Place: Tamastslikt Cultural Institute, 72789 Highway 331, Pendleton, OR. Telephone: (541) 276-2323.

Status: Meeting Cancel. Published in Federal Register: June 27, 2001. (Volume 66, Number 124)] [Notices] [Page 34205] From the Federal Register Online via GPO Access [wais.access.gpo.gov] [DOCID:fr27jn01-89]

Contact Persons for More Information: French Bell, Executive Secretary HHES, or Marilyn Palmer, Committee Management Specialist, Division of Health Assessment and Consultation, ATSDR, 1600 Clifton Road, NE M/S E-54, Atlanta, Georgia 30333, telephone 1-888-42-ATSDR(28737), fax 404/498-1744.

The Director, Management Analysis and Services Office, has been delegated the authority to sign Federal Register notices pertaining to announcements of meetings and other committee management activities, for both the Centers for Disease Control and Prevention and the Agency for Toxic Substances and Disease Registry.

Dated: July 26, 2001.
Carolyn Russell,
Director, Management Analysis and Services Office, Centers for Disease Control and Prevention.

[FR Doc. 01-19421 Filed 8-2-01; 8:45 am]

BILLING CODE 4163-18-P